DEPARTMENT OF TRANSPORTATION

Office of the Secretary

Aviation Proceedings, Agreements Filed the Week Ending March 7, 2009

The following Agreements were filed with the Department of Transportation under the Sections 412 and 414 of the Federal Aviation Act, as amended(49 U.S.C. 1383 and 1384) and procedures governing proceedings to enforce these provisions. Answers may be filed within 21 days after the filing of the application.

Docket Number: DOT-OST-2009-0059.

Date Filed: March 4, 2009.

Parties: Members of the International Air Transport Association.

Subject: TC12 North Atlantic—Africa (except between USA and Reunion), TC12 Mid Atlantic—Middle East, TC12 South Atlantic—Middle East, Resolutions and Specified Fares Tables (Memo 0276),

Minutes: TC12 North, Mid, South Atlantic—Middle East, TC12 North, Mid, South Atlantic—Africa (Memo 0295/0278),

Intended effective date: 1 May 2009.

Docket Number: DOT-OST-2009-0060.

Date Filed: March 4, 2009.

Parties: Members of the International Air Transport Association.

Subject: TC12 North Atlantic—Africa between USA and Reunion, Resolutions and Specified Fares Tables (Memo 0277),

Minutes: TC12 North, Mid, South Atlantic—Middle East, TC12 North, Mid, South Atlantic—Africa (Memo 0295/0278),

Intended effective date: 1 May 2009.

Renee V. Wright,
Program Manager, Docket Operations, Federal Register Liaison.

[FR Doc. E9-6600 Filed 3-24-09; 8:45 am]

BILLING CODE 4910-9X-P